DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 1, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Resources Conservation Service

Title: Conservation Outreach, Education, and Technical Assistance.

OMB Control Number: 0578-NEW.

Summary of Collection: NRCS OPD is administrating the Equity in Conservation Outreach cooperative agreements. As the primary goal of NRCS, in collaboration with partners, is to expand conservation assistance to historically underserved producers and underserved communities and to provide opportunities for students to pursue careers in agriculture, natural resources, and related sciences. After the cooperative agreements are awarded, the cooperators will be required to provide performance reports to provide information as specified in the general terms and conditions in the executed cooperative agreement. Recipients will report semi-annually. In order to evaluate the impact and effectiveness of the agreement via standardized metrics, NRCS OPD is offering a performance reporting template as a supplement to the required performance report.

Need and Use of the Information: The approved cooperators will report the equity information using the report template to NRCS OPD on the underserved producers and communities who receive conservation assistance and students who are interested to pursue agriculture, natural resources and related sciences careers. Failure in not providing the report will result in not getting the effectiveness of the outreach, education and technical assistance.

Description of Respondents: Individuals or households.

Number of Respondents: 150.

Frequency of Responses: Reporting: Other (once)

Total Burden Hours: 1,200.

Ruth Brown,
Departmental Information Collection Clearance Officer.

[FR Doc. 2023-24050 Filed 10-31-23; 8:45 am]

BILLING CODE 3410-16-P